DEPARTMENT OF TRANSPORTATION

National Highway Traffic Safety Administration

Reports, Forms, and Record Keeping Requirements; Agency Information Collection Activity Under OMB Review

AGENCY: National Highway Traffic Safety Administration (NHTSA), DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on April 15, 2011 (76 FR 21422-21423).

DATES: Comments must be submitted on or before October 11, 2011.

ADDRESSES: Send comments, within 30 days, to the Office of Information and Regulatory Affairs, Office of Management and Budget, 725 17th Street, NW., Washington, DC 20503, Attention NHTSA Desk Officer.

FOR FURTHER INFORMATION CONTACT: Jessica Cicchino, PhD, Contracting Officer's Technical Representative, Office of Behavioral Safety Research (NTI-131), National Highway Traffic Safety Administration, 1200 New Jersey Ave., SE., W46-491, Washington, DC 20590. Dr. Cicchino's phone number is 202-366-2752 and her e-mail address is jessica.cicchino@dot.gov.

SUPPLEMENTARY INFORMATION:

Title: Evaluation of Impaired Riding Interventions.

Type of Request: New information collection request.

Abstract: The heavy toll that impaired driving exacts on the Nation in fatalities, injuries, and economic costs is well documented. Impaired motorcycle riding has also been an increasing concern on our Nation's roads. Motorcycle fatalities in the US decreased in 2009 for the first time after steadily increasing for 11 years; however, even with this decline, the number of motorcycle fatalities in 2009 was nearly double that from a decade earlier. Alcohol impairment is a factor that contributes to a substantial proportion of fatal motorcycle crashes. In 2009, 30% of motorcycle riders fatally injured in crashes had a blood alcohol concentration (BAC) at or above .08 g/dL, which is per se evidence of impaired riding in all States. Forty-two percent of riders who died in single-vehicle crashes in 2009, and 63% of riders who died in single-vehicle crashes on weekend nights, had a BAC of .08 g/dL or higher.

In 2012, NHTSA anticipates sponsoring demonstration projects in multiple locations to conduct interventions with the purpose of reducing impaired motorcycle riding. NHTSA plans to evaluate these interventions to determine their effectiveness. A key component of this evaluation effort will use brief interviews to assess motorcycle riders' knowledge of the intervention, self-reported drinking and riding behavior, and belief that alcohol-impaired driving laws are enforced for all motorists, including motorcycle riders in the areas in which the interventions will occur.

In-person interviews will be conducted with motorcycle riders in up to 4 program locations, and in up to 3 comparison locations not carrying out an intervention. Motorcycle riders will be interviewed at sites within the program and comparison locations where riders congregate. Interview length will average 5 minutes and will collect information on attitudes, awareness, knowledge, and behavior related to the intervention.

The interviews will follow a pre-post design where they are administered prior to the implementation of the intervention and after its conclusion. For interventions where a pre-post design would not be possible (i.e., interventions that are conducted in conjunction with an infrequently-occurring event), the interviews will follow a test-comparison design where they are administered during the intervention in the program location, and in a comparison location that did not experience an intervention. The proposed interviews will be anonymous. Participation by respondents will be voluntary.

Affected Public: NHTSA plans to recruit up to 500 riders per interview administration. Up to 2 waves of program activity are planned in each program location, and thus interviews will be administered a maximum of 4 times (before and after each wave of program activity) in each of the 7 study locations (4 program locations and 3 comparison locations). Thus, a total maximum of 14,000 motorcycle riders will be interviewed.

Estimated Total Burden: Estimated time for each interview is 5 minutes. Hence, the total estimated burden is 1,166.67 hours. Respondents would not incur any recordkeeping burden or recordkeeping cost from the information collection.

Comments are invited on the following:

(i) Whether the proposed collection of information is necessary for the proper performance of the functions of the agency, including whether the information will have practical utility;

(ii) The accuracy of the agency's estimate of the burden of the proposed information collection;

(iii) Ways to enhance the quality, utility, and clarity of the information to be collected; and

(iv) Ways to minimize the burden of the collection of information on respondents, including the use of automated collection techniques or other forms of information technology.

A comment to OMB is most effective if OMB receives it within 30 days of publication.

Authority: 44 U.S.C. Section 3506(c)(2)(A)

Jeff Michael,
Associate Administrator, Research and Program Development.

[FR Doc. 2011-23075 Filed 9-8-11; 8:45 am]

BILLING CODE 4910-59-P